DEPARTMENT OF HEALTH AND HUMAN SERVICES

Centers for Disease Control and Prevention

Notice of Award of a Sole Source Cooperative Agreement To Fund World Health Organization (WHO)

AGENCY: Centers for Disease Control and Prevention (CDC), Department of Health and Human Services (HHS).

ACTION: Notice.

SUMMARY: The Centers for Disease Control and Prevention (CDC), located within the Department of Health and Human Services (HHS), announces the award of approximately $20,000,000, with an expected total funding of approximately $100,000,000 over a 5-year period, to World Health Organization (WHO). The award aims to support CDC and the WHO's continued collaboration to address global capacity to identify, respond, and prevent infectious diseases.

DATES: The period for this award will be September 30, 2025 through September 29, 2030.

FOR FURTHER INFORMATION CONTACT: Broderick Yoerg, Division of Global Health Protection, Global Health Center, Centers for Disease Control and Prevention, 1600 Clifton Rd, Atlanta, GA 30329, Telephone: (404) 234-0666, Email: DGHPNOFOs@cdc.gov.

SUPPLEMENTARY INFORMATION: The sole source award will ensure coordination between CDC and the WHO and contribute to the response to disease outbreaks and other health emergencies, both through capacity building and direct response to active emergencies.

WHO is the only entity that can carry out this work, as it has a robust global infrastructure that gives it direct access to national ministries of health and other critical health institutions through its headquarters in Geneva and six regional offices. WHO will enhance global and regional preparedness, surveillance, and laboratory capacity to test for and respond to epidemic and pandemic-prone diseases.

Summary of the Award

Recipient: World Health Organization (WHO).

Purpose of the Award: The purpose of this award is to support implementation of infrastructure and collaborations between CDC and the WHO to build capacities needed to rapidly detect and contain disease outbreaks at the source and prevent their international spread. NOFO activities will ensure coordination between CDC and the WHO and contribute to the response to disease outbreaks and other health emergencies, both through capacity building and direct response to active emergencies.

Amount of Award: $20,000,000 in Federal Fiscal Year (FFY) 2025 funds, with a total estimated $100,000,000 for the 5-year period of performance, subject to availability of funds.

Authority: This program is authorized under Section 307 of the Public Health Service Act [42 U.S.C. 24l) and Section 301(a)[42 U.S.C. 24l(a) of the Public Health Service Act.

Period of Performance: September 30, 2025 through September 29, 2030.

Dated: December 17, 2024.
Terrance Perry,
Acting Director, Office of Grants Services, Centers for Disease Control and Prevention.

[FR Doc. 2024-31197 Filed 12-26-24; 8:45 am]

BILLING CODE 4163-18-P